FEDERAL ELECTION COMMISSION

Sunshine Act Meeting

AGENCY: Federal Election Commission.

DATE AND TIME: Thursday, May 10, 2012 at 10:00 a.m.

PLACE: 999 E Street NW., Washington, DC (Ninth Floor).

STATUS: This Meeting Will Be Open to the Public.

Items To Be Discussed

Correction and Approval of the Minutes for the Meeting of April 26, 2012.

Draft Advisory Opinion 2012-07: Feinstein for Senate.

Draft Advisory Opinion 2012-16: Angus King for U.S. Senate Campaign and Pierce Atwood LLP.

Audit Division Recommendation Memorandum on The Legacy Committee Political Action Committee (A09-22).

Revised Guidebook for Complainants and Respondents on the FEC Enforcement Process.

2012 Legislative Recommendations.

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-11079 Filed 5-3-12; 4:15 pm]

BILLING CODE 6715-01-P